FEDERAL COMMUNICATIONS COMMISSION

[Report No. 2457]

Petitions for Reconsideration of Action in Rulemaking Proceedings

December 11, 2000.

Petitions for Reconsideration have been filed in the Commission's rulemaking proceedings listed in this Public Notice and published pursuant to 47 CFR 1.429(e). The full text of this document is available for viewing and copying in Room CY-A257, 445 12th Street, SW., Washington, DC or may be purchased from the Commission's copy contractor, ITS, Inc. (202) 857-3800. Oppositions to these petitions must be filed by January 3, 2001. See section 1.4(b)(1) of the Commission's rules (47 CFR 1.4(b)(1)). Replies to an opposition must be filed within 10 days after the time for filing oppositions have expired.

Subject: Compatibility Between Cable and Consumer Electronics Equipment (PP Docket No. 00-67).

Number of Petitions Filed: 2.

Subject: 1998 Biennial Regulatory Review 47 CFR part 90—Private Land Mobile Radio Services (WT Docket No. 98-182, RM-9222).

Replacement of Part 90 by Part 88 to Revise the Private Land Mobile Radio Services and Modify the Policies Governing Them and Examination of the Exclusivity and Frequency Assignment Policies of the Private Land Mobile Services (PR Docket No. 92-235).

Number of Petitions Filed: 4.

Federal Communications Commission.
Magalie Roman Salas,
Secretary.

[FR Doc. 00-32249 Filed 12-18-00; 8:45 am]

BILLING CODE 6712-01-M